NATIONAL SCIENCE FOUNDATION

Membership of National Science Foundation's Senior Executive Service Performance Review Board

AGENCY: National Science Foundation.

ACTION: Notice.

SUMMARY: The National Science Foundation is announcing the members of the Senior Executive Service Performance Review Board.

ADDRESSES: Comments should be addressed to Branch Chief, Executive Services, Division of Human Resource Management, National Science Foundation, Room W15219, 2415 Eisenhower Avenue, Alexandria, VA 22314.

FOR FURTHER INFORMATION CONTACT: Ms. Jennifer Munz at the above address or (703) 292-2478.

SUPPLEMENTARY INFORMATION: The membership of the National Science Foundation's Senior Executive Service Performance Review Board is as follows:

F. Fleming Crim, Chief Operating Officer, Chairperson

Wonzie Gardner, Chief Human Capital Officer and Office Head, Office of Information and Resource Management

Karen Marrongelle, Assistant Director, Directorate for Education and Human Resources

Suzanne C. Iacono, Office Head, Office of Integrative Activities

Janis Coughlin-Piester, Deputy Office Head, Office of Budget, Finance and Award Management

Joanne Tornow, Assistant Director, Directorate for Biological Sciences

Erwin Gianchandani, Deputy Assistant Director, Directorate for Computer and Information Science and Engineering

William Malyszka, Division Director, Division of Human Resource Management and PRB Executive Secretary

This announcement of the membership of the National Science Foundation's Senior Executive Service Performance Review Board is made in compliance with 5 U.S.C. 4314(c)(4).

Dated: August 17, 2020.
Suzanne H. Plimpton,
Reports Clearance Officer, National Science Foundation.

[FR Doc. 2020-18247 Filed 8-19-20; 8:45 am]

BILLING CODE 7555-01-P